DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Acting Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on October 1, 2005, through December 31, 2005.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading FOR FURTHER INFORMATION CONTACT), with a copy to HRSA addressed to Acting Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Anna and Robert Perkins on behalf of Jason Perkins, Chicago, Illinois, Court of Federal Claims No: 05-1057V.

2. Ingrid Bianco on behalf of Frank John Bianco, Somers Point, New Jersey, Court of Federal Claims No: 05-1059V.

3. Patricia and Chris Riggle on behalf of Joseph William Riggle, Greenland, New Hampshire, Court of Federal Claims No: 05-1062V.

4. Barbara and John Murphy on behalf of Michael Murphy, West Friendship, Maryland, Court of Federal Claims No: 05-1063V.

5. Alisha Shepperson on behalf of Jordan Taylor Shepperson, Fort Walton Beach, Florida, Court of Federal Claims No: 05-1064V.

6. Darren McDonough on behalf of Garrett Patrick McDonough, Greensboro, North Carolina, Court of Federal Claims No: 05-1077V.

7. Mary and Michael Schoeppner on behalf of Mary Schoeppner, Tampa, Florida, Court of Federal Claims No: 05-1080V.

8. Suzanne and John Davis on behalf of Spencer Davis, Lewiston, Maine, Court of Federal Claims No: 05-1084V.

9. Leslie Wilson and Akira Ueno on behalf of Nathan Ueno, Portland, Oregon Court of Federal Claims No: 05-1102V.

10. Melissa and John Wallace on behalf of Madilyn Wallace, Boston, Massachusetts, Court of Federal Claims No: 05-1104V.

11. Jestine Lachapelle on behalf of Joshua Lachapelle, Deceased, Dover, Delaware, Court of Federal Claims No: 05-1106V.

12. Stephen Lieurance, Andover, Kansas, Court of Federal Claims No: 05-1107V.

13. Pamela and Ronald Smith on behalf of Takashi Jesse Smith, San Jose, California, Court of Federal Claims No: 05-1108V.

14. Asa and Leondra McMahon on behalf of Asa McMahon, Ithaca, New York, Court of Federal Claims No: 05-1110V.

15. James Grassman, Deceased Rancho Mirage, California, Court of Federal Claims No: 05-1114V.

16. Jorge Alberto Carcamo, Simi Valley, California, Court of Federal Claims No: 05-1116V.

17. Kristi and Scott Getson on behalf of Edward Matthew Getson, Philadelphia, Pennsylvania, Court of Federal Claims No: 05-1117V.

18. Nicole Schwartz on behalf of Alexander Schwartz, Somers Point, New Jersey, Court of Federal Claims No: 05-1118V.

19. Scott Berger, Commack, New York, Court of Federal Claims No: 05-1120V.

20. Sonali and Darryl Tang on behalf of Arman Sebastian Tang, La Mesa, California, Court of Federal Claims No: 05-1122V.

21. Roger Siekbert on behalf of Chloe Siekbert, Blue Creek, Ohio, Court of Federal Claims No: 05-1124V.

22. Julie Clinton on behalf of John Clinton, Memphis, Tennessee, Court of Federal Claims No: 05-1126V.

23. Yanitza and Joel Jimenez on behalf of Jeilynne Jimenez, Somers Point, New Jersey, Court of Federal Claims No: 05-1127V.

24. Andrea and Mitchell Mitchell on behalf of Jack Mitchell, Carmel, Indiana, Court of Federal Claims No: 05-1128V.

25. William Taylor on behalf of Joseph Taylor, Boston, Massachusetts, Court of Federal Claims No: 05-1133V.

26. Sheri and Steven Zettle on behalf of Quaid Zettle, Boston, Massachusetts, Court of Federal Claims No: 05-1134V.

27. Marcia and Joseph Ferraro on behalf of Anthony Ferraro, Boston, Massachusetts, Court of Federal Claims No: 05-1135V.

28. Kerrie and Paul Ferrara on behalf of Paul Ferrara, Boston, Massachusetts, Court of Federal Claims No: 05-1136V.

29. Ishrat and Ahmad Ahsan on behalf of Ariana Ahsan, Boston, Massachusetts, Court of Federal Claims No: 05-1137V.

30. Nicole and Bret Cochran on behalf of Jake Cochran, Boston, Massachusetts, Court of Federal Claims No: 05-1138V.

31. Lisa and James Glover on behalf of Chloe Glover, Boston, Massachusetts, Court of Federal Claims No: 05-1139V.

32. Paula Kelley, Clairton, Pennsylvania, Court of Federal Claims No: 05-1140V.

33. Renda Sue Mace and Billy Oliphant on behalf of Renda Sue Mace, Clinton, Oklahoma, Court of Federal Claims No: 05-1146V.

34. Heidi and Roderick Conner on behalf of Maryah M. Conner, Twin Falls, Idaho, Court of Federal Claims No: 05-1149V.

35. Louise Habakus on behalf of Nicholas Habakus, Red Bank, New Jersey, Court of Federal Claims No: 05-1150V.

36. Marlo Thomas, Goldsboro, North Carolina, Court of Federal Claims No: 05-1151V.

37. Marcy Miles on behalf of Sean Miles, Norwich, New York, Court of Federal Claims No: 05-1152V.

38. Jerry Fridley, Fontana, California, Court of Federal Claims No: 05-1153V.

39. Janelle and M. Thomas Jones on behalf of Benjamin Jones, Ft. Wayne, Indiana, Court of Federal Claims No: 05-1154V.

40. Linda Burton on behalf of Evan Burton, Philadelphia, Pennsylvania, Court of Federal Claims No: 05-1155V.

41. Luke James Lewis, Lackland, Texas, Court of Federal Claims No: 05-1160V.

42. Michelle and Trever Anderson on behalf of Aidan Bae Schulte Anderson, Augusta, Georgia, Court of Federal Claims No: 05-1162V.

43. Pamela Haynes on behalf of John Haynes, Boston, Massachusetts, Court of Federal Claims No: 05-1164V.

44. Theresa Lux on behalf of Katharine Lux, Boston, Massachusetts, Court of Federal Claims No: 05-1165V.

45. Christine and Cody Bielawa on behalf of Matthew Bielawa, New York, New York, Court of Federal Claims No: 05-1168V.

46. Joyce and Carl Schwenk on behalf of Justin Schwenk, Lansdale, Pennsylvania, Court of Federal Claims No: 05-1169V.

47. Don Kostenbader, Pottsville, Pennsylvania, Court of Federal Claims No: 05-1171V.

48. Theresa Cangialosi on behalf of Alexandra Coen, Philadelphia, Pennsylvania, Court of Federal Claims No: 05-1174V.

49. Kimberly and Kieran Bastible on behalf of Luke Xavier Bastible, Lake Success, New York, Court of Federal Claims No: 05-1176V.

50. Lesley Ann Jones on behalf of Jade Christine Dollar, Morton, Illinois, Court of Federal Claims No: 05-1178V.

51. Ann and Keith Dronen on behalf of Anastasia C. Dronen, Wimette, Illinois, Court of Federal Claims No: 05-1181V.

52. Joseph Demko, Sherman, Texas, Court of Federal Claims No: 05-1190V.

53. Shirley and Clarence McKinnon on behalf of Deontay Perry, Baltimore, Maryland, Court of Federal Claims No: 05-1194V.

54. Stacey and David Lavely on behalf of Jagger Lavely, Philadelphia, Pennsylvania, Court of Federal Claims No: 05-1195V.

55. Kevin Wayne Stead, Fort Bragg, North Carolina, Court of Federal Claims No: 05-1196V.

56. Lorraine and Gregory Sissons on behalf of Lauren Sissons, Philadelphia, Pennsylvania, Court of Federal Claims No: 05-1197V.

57. Tammi Halvorson on behalf of Patrick Halvorson, Boston, Massachusetts, Court of Federal Claims No: 05-1198V.

58. Roseann Havers on behalf of Mikayla Havers, Boston, Massachusetts, Court of Federal Claims No: 05-1199V.

59. Michelle Mouille on behalf of Maurice Lamkin, San Antonio, Texas, Court of Federal Claims No: 05-1204V.

60. Philip Carter, Costa Mesa, California, Court of Federal Claims No: 05-1206V.

61. Lori Bedrio on behalf of Samantha Bedrio, La Mesa, California, Court of Federal Claims No: 05-1207V.

62. Jeffrey House on behalf of Logan House, Boston, Massachusetts, Court of Federal Claims No: 05-1210V.

63. Nanette and Jeff Cunningham on behalf of Zoe Rose Cunningham, Sulphur Springs, Texas, Court of Federal Claims No: 05-1212V.

64. Charlene French, Tacoma, Washington, Court of Federal Claims No: 05-1213V.

65. Linda Reno on behalf of Connor Reno, Boston, Massachusetts, Court of Federal Claims No: 05-1214V.

66. Jenny and Glenn Hess on behalf of Jackson Connor Hess, Flint, Michigan, Court of Federal Claims No: 05-1216V.

67. Lauren and Louis Matto on behalf of Louis Matto, IV, Somers Point, New Jersey, Court of Federal Claims No: 05-1221V.

68. Carrie Ruth Brake on behalf of Stephen Joseph Brake, Winchester, Kentucky, Court of Federal Claims No: 05-1228V.

69. Brenda Deiuliis on behalf of Anthony N. Deiuliis, Pittsburgh, Pennsylvania, Court of Federal Claims No: 05-1230V.

70. Robert Smith, Dickinson, Texas, Court of Federal Claims No: 05-1231V.

71. Carrie Ruth Brake on behalf of Phillip Brake, Winchester, Kentucky, Court of Federal Claims No: 05-1233V.

72. Pamela and Greg Giacchi on behalf of Anthony Giacchi, Pompton, New Jersey, Court of Federal Claims No: 05-1235V.

73. Laurie and John M. Lupo on behalf of Jonathan David Lupo, Basking Ridge, New Jersey, Court of Federal Claims No: 05-1238V.

74. Jonathan Corneil, Wahpeton, North Dakota, Court of Federal Claims No: 05-1239V.

75. Tina L. Goodlock, Adrian, Michigan, Court of Federal Claims No: 05-1240V.

76. Lydia Cisneros and Alejandro Rodriguez on behalf of Britney Rodriguez Cisneros, Deceased, Los Angeles, California, Court of Federal Claims No: 05-1241V.

77. Joanne Arnoult on behalf of Jordan Arnoult, Marrero, Louisiana, Court of Federal Claims No: 05-1247V.

78. Janice Crabtree and Jeffery Ambroziak on behalf of William Ambroziak, Boston, Massachusetts, Court of Federal Claims No: 05-1256V.

79. Pamela and David Goggins on behalf of Allston Goggins, Boston, Massachusetts, Court of Federal Claims No: 05-1257V.

80. Michael Peace on behalf of Anaya Shanelle Peace, Dallas, Texas, Court of Federal Claims No: 05-1258V.

81. Lujene and Alan Clarke on behalf of Devon Chandler Clarke, Lake Success, New York, Court of Federal Claims No: 05-1260V.

82. Francis Perez on behalf of Mario Perez, Deceased, Willingboro, New Jersey, Court of Federal Claims No: 05-1261V.

83. Theodore W. Porada, Middleburg Heights, Ohio, Court of Federal Claims No: 05-1262V.

84. Shawnte Ayalew on behalf of Sydney Jones, Redwood City, California, Court of Federal Claims No: 05-1266V.

85. Frederick and Betty Brady on behalf of Frederick Brady Ashville, North Carolina, Court of Federal Claims No: 05-1267V.

86. Khudeza Begum on behalf of Mehabub Bhuiyan, New York, New York, Court of Federal Claims No: 05-1269V.

87. Natasha Malone on behalf of Jazmon Malone, Dallas, Texas, Court of Federal Claims No: 05-1270V.

88. Liz Warren on behalf of Milo Zada, San Francisco, California, Court of Federal Claims No: 05-1271V.

89. Alexandra and Donald Mazziotti on behalf of Gabriella Mazziotti, Portland, Oregon, Court of Federal Claims No: 05-1274V.

90. Leilani and Gary Gross on behalf of Talia Gross, Huntington Beach, California, Court of Federal Claims No: 05-1275V.

91. Mary and Joseph Hostetler on behalf of Matthew Hostetler, Apple Creek, Ohio, Court of Federal Claims No: 05-1276V.

92. John Crouch on behalf of Cody Crouch Boston, Massachusetts, Court of Federal Claims No: 05-1279V.

93. David Dearinger on behalf of George Dearinger, Everett, Washington, Court of Federal Claims No: 05-1280V.

94. Karrie and Len Jennings on behalf of Tristin Robert Jennings, Minneapolis, Minnesota, Court of Federal Claims No: 05-1283V.

95. Latricia Hewings on behalf of Miles Lee Williams, Deceased, Milwaukee, Wisconsin, Court of Federal Claims No: 05-1292V.

96. David Dearinger on behalf of Jack Dearinger, Everett, Washington, Court of Federal Claims No: 05-1293V.

97. Maloree McDonough, Little Rock, Arkansas, Court of Federal Claims No: 05-1294V.

98. Frederick James Vondrak, III on behalf of Frederick James Vondrak, IV, Novi, Michigan, Court of Federal Claims No: 05-1310V.

99. Andrew Collier on behalf of Michael Collier, Brookfield, Missouri, Court of Federal Claims No: 05-1314V.

100. Donna and Ed Iarrapino on behalf of Joseph Andrew Iarrapino, Lake Success, New York, Court of Federal Claims No: 05-1350V.

101. Denise and Michael Smith on behalf of Alexander Hunter Smith, Lake Success, New York, Court of Federal Claims No: 05-1351V.

102. Alan Peltes St. Louis, Missouri, Court of Federal Claims No: 05-1352V.

103. Jeannine and Dominic Pernice on behalf of Nicholas Pernice, Philadelphia, Pennsylvania, Court of Federal Claims No: 05-1358V.

104. Amy Sauter on behalf of Jack Sauter, Philadelphia, Pennsylvania, Court of Federal Claims No: 05-1359V.

105. Michael W. Collier, Sr. on behalf of Benjamin D. Collier, Lake Success, New York, Court of Federal Claims No: 05-1370V.

106. Melissa Steinberg, Frenchtown, New Jersey, Court of Federal Claims No: 05-1377V.

107. Karen Dola-Fein and Gregory Fein on behalf of Daniel Fein, West Hills, California, Court of Federal Claims No: 05-1379V.

108. Renee and Brendon Deyo on behalf of Bryan Deyo, Washington, DC, Court of Federal Claims No: 05-1385V.

109. Melissa Guffey on behalf of Kimberly Warfle, Paris, Tennessee, Court of Federal Claims No: 05-1399V.

110. Kimberly and Stephen Benson on behalf of Mackenzie Benson, Doyleston, Pennsylvania, Court of Federal Claims No: 05-1400V.

111. Tresa and Steven Kinzer on behalf of Samuel Kinzer, Cleveland, Tennessee, Court of Federal Claims No: 05-1401V.

Dated: March 9, 2006.
Elizabeth M. Duke,
Administrator.

[FR Doc. E6-3791 Filed 3-15-06; 8:45 am]

BILLING CODE 4165-15-P